ENVIRONMENTAL PROTECTION AGENCY

40 CFR Part 52

[EPA-R01-OAR-2017-0590; FRL-9971-59-Region 1]

Air Plan Approval; Massachusetts; Logan Airport Parking Freeze

AGENCY: Environmental Protection Agency.

ACTION: Proposed rule.

SUMMARY: The Environmental Protection Agency (EPA) is proposing to approve a State Implementation Plan (SIP) revision submitted by the Commonwealth of Massachusetts. This SIP revision increases the total number of commercial parking spaces allowed in the Logan Airport Parking Freeze Area by 5,000 parking spaces. The intended effect of this action is to reduce carbon monoxide (CO) and nitrogen oxide (NOX) emissions by reducing the increased vehicle miles traveled (VMT) resulting from insufficient available parking. This action is being taken under the Clean Air Act.

DATES: Written comments must be received on or before January 4, 2018.

ADDRESSES: Submit your comments, identified by Docket ID No. EPA-R01-OAR-2017-0590 at http://www.regulations.gov, or via email to mcwilliams.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the “For Further Information Contact” section. For the full EPA public comment policy, information about CBI or multimedia submissions, and general guidance on making effective comments, please visit http://www.epa.gov/dockets/commenting-epa-dockets.

FOR FURTHER INFORMATION CONTACT: Anne McWilliams, Air Quality Planning Unit, U.S. Environmental Protection Agency, EPA New England Regional Office, 5 Post Office Square—Suite 100, (Mail code OEP05-2), Boston, MA 02109—3912, telephone number: (617) 918-1697, email: mcwilliams.anne@epa.gov.

SUPPLEMENTARY INFORMATION: Throughout this document whenever “we,” “us,” or “our” is used, we mean EPA.

Table of Contents

I. Background

II. State Submittal

III. EPA's Assessment of the State Submittal

IV. Proposed Action

V. Incorporation by Reference

VI. Statutory and Executive Order Reviews

I. Background

Since 1975, Boston Logan International Airport (Logan Airport) has been subject to a freeze on the number of commercial parking spaces available for use by Logan Airport travelers and visitors. In the mid-seventies, EPA developed the Logan Parking Freeze as part of a comprehensive strategy to reduce air pollution caused by automobile emissions. The goal was to achieve the ozone and CO National Ambient Air Quality Standards (NAAQS) established by EPA under the Clean Air Act (CAA).

The Logan Airport Parking Freeze was reaffirmed and committed to as a Reasonable Available Control Measure (RACM) in the 1979 and 1982 State Implementation Plan revisions required by the Clean Air Act Amendments of 1977. Through the 1979 and 1982 SIP revisions, the Commonwealth incorporated the Federal Implementation Plan's parking freeze provisions by reference, committing the Commonwealth to implement and enforce the parking freeze as a state regulation, 310 Code of Massachusetts Regulations (CMR) 7.30 Massachusetts Port Authority (Massport)/Logan Airport Parking Freeze, as well as Federal law.

In 1989, the Logan Airport Parking Freeze was amended and the East Boston Parking Freeze was adopted by the Commonwealth of Massachusetts. Unlike the 1975 Logan Freeze, which targeted only commercial parking, the 1989 state action limited and regulated the management of all major airport-related parking in the Logan Airport and East Boston Parking Freeze areas. The parking supply at Logan Airport was capped at 19,315 parking spaces. In addition, Logan-related park-and-fly and rental car parking spaces in East Boston were capped at existing levels. On April 26, 1991, the Massachusetts Department of Environmental Protection (MassDEP) certified the parking freeze numbers for the East Boston Parking Freeze area at 4,012 rental motor vehicle parking spaces and 2,475 park-and-fly parking spaces. EPA approved the Logan Airport Parking Freeze and East Boston Parking Freeze amendments into the Massachusetts SIP on March 16, 1993. See 58 FR 14153-14157.

The Logan Airport and East Boston Parking Freezes were designed to meet the following objectives: Mitigating the traffic-related air quality impacts of airport access on both a regional and neighborhood level; reducing the number of vehicle trips (i.e., employee and air traveler drop-off/pick up trips) by providing a mix of on-airport parking and off-airport satellite parking centers outside of the parking freeze area; managing the parking supply for Logan to stabilize overall ground access; and developing a unified access management plan for Logan Airport. One of the goals of the current Logan Airport Parking Freeze and East Boston Parking Freeze is to encourage the relocation of park-and-fly parking spaces from the East Boston neighborhoods to reduce localized traffic and air quality impacts.

On March 21, 2001, EPA approved revisions to 310 CMR 7.30 Massport/Logan Airport Parking Freeze and 310 CMR 7.31 City of Boston/East Boston Parking Freeze which allow the permanent relocation of certain categories of parking spaces from the East Boston Parking Freeze area inventory to the Logan Airport Parking Freeze area. See 66 FR 14318. One of the goals of the amendments was to encourage the relocation of the park-and-fly spaces from the East Boston neighborhoods, reducing localized traffic and air quality impacts.

According to the most recent Logan Airport Spaces Inventory, the number of existing Total Parking Freeze Spaces is 21,088. In the Massport Policy Memorandum submitted by MassDEP,¹ Massport details how parking is becoming more constrained at Logan Airport. Since 1975, there has been a 220% increase in passengers at Logan, but only an 80% increase in Logan's commercial parking supply.

¹ The Massport Policy Memorandum submitted to MassDEP in a letter dated June 6, 2016 can be found in the docket for this rulemaking.

II. State Submittal

On July 13, 2017, MassDEP submitted amendments to 310 CMR 7.30 Massport/Logan Airport Parking Freeze as a formal revision to the Massachusetts State Implementation Plan (SIP). Revised 310 CMR 7.30 increases the total number of commercial spaces in the Logan Parking Freeze area by 5,000 spaces to a total of 26,088. In the event that the remaining 702 park-and-fly spaces in the East Boston Parking Freeze cap were converted to commercial spaces at Logan Airport in the future, the maximum total number of spaces permitted would be 26,790.

The revision also requires Massport to complete the following studies within 24 months of June 30, 2017: (1) Potential improvements to high occupancy vehicle access to Logan; (2) a cost and pricing assessment for different modes of transportation to and from Logan in order to generate revenue for the promotion of HOV use by airport travelers and visitors; and (3) the feasibility and effectiveness of potential operational measures to reduce non-HOV pick-up/drop-off modes of transportation to Logan Airport.

Finally, the revision allows Massport to satisfy its annual reporting requirements through its submission of annual Environmental Data Reports or similar airport-wide documents under the Massachusetts Environmental Policy Act (MEPA).

III. EPA's Assessment of the State Submittal

The Technical Analysis submitted by MassDEP ² demonstrates the current insufficient parking at Logan Airport. In 2014, Massport diverted or valet-parked passenger vehicles on 103 out of 260 working days.³ On such days, vehicles are diverted to other on-airport facilities or to off-site facilities such as Suffolk Downs, or vehicles are valet-parked, stacked at parking facilities or at other on-airport locations. Such operations are inconvenient to passengers, increases VMT at the airport, and has potential long-term ramifications for future mode choice. Passengers who are unable to park at Logan Airport are more likely to use pick-up/drop-off modes in the future.

² “Technical Analysis” prepared by Vanasse Hangen Brustlin (VHB) dated December 11, 2015 listed as Exhibit B is available in the docket for this rulemaking.

³ It should be noted that Massport continued to be in full compliance with the Logan Airport Parking Freeze throughout 2014.

The Technical Analysis concludes that building more parking spaces meets the current and future parking demand. Parking on site results in fewer trips than drop-off/pick-up modes per air passenger. The air quality analysis shows that emissions of VOC, NOX, and CO2 are reduced by 20-25 percent if additional on-airport parking is built compared to a no build scenario.⁴ In addition, MassDEP emphasizes that any new parking garage built as a consequence of the revised regulation would be subject to review under the Massachusetts Environmental Policy Act (MEPA), which would require Massport to submit and review an Environmental Notification Report (ENR) and Environmental Impact Report (EIR). Massport would also be required to commit, through the MEPA Section 61 Findings, to additional mitigation measures with respect to the garage's environmental impacts.

⁴ See Section VII. Analysis of Vehicle Emissions Resulting from VMT Changes of the “Technical Analysis.”

Clean Air Act (CAA) section 110(l) provides that EPA shall not approve any implementation plan revision if it would interfere with any applicable requirement concerning attainment and reasonable further progress, or any other applicable requirement of the CAA, i.e. demonstrate anti-backsliding. The Massport/Logan Parking Freeze was originally implemented to reduce mobile source emissions in order to achieve the CO and Ozone NAAQS. Massachusetts is currently meeting both standards.⁵ However, the current constrained parking encourages more people to choose drop-off/pick-up travel modes, which increases the vehicle miles traveled and air emissions. The submitted amendment will result in reduced vehicle trips and thereby reduce air emissions.

⁵ For the most recent air quality design values, see www.epa.gov/air-trends/air-quality-design-values.

MassDEP has demonstrated that the addition of 5,000 parking spaces to the Logan Airport Freeze area will result in a decrease in VMT which in turn will reduce VOC, NOX and CO air emissions. EPA proposes to find that the revisions to 310 CMR 7.30 meet the requirements of CAA section 110(l). In addition, EPA proposes to approve revised 310 CMR 7.30 into the SIP because it will strengthen the SIP by reducing pollutant emissions. EPA is soliciting public comments on the issues discussed in this notice or on other relevant matters. These comments will be considered before taking final action. Interested parties may participate in the Federal rulemaking procedure by submitting written comments to this proposed rule by following the instructions listed in the ADDRESSES section of this Federal Register.

IV. Proposed Action

EPA is proposing to approve and incorporate into the Massachusetts SIP revised 310 CMR 7.30 Massport/Logan Airport Parking Freeze submitted on July 13, 2017. The revision increases the total number of commercial parking spaces allowed in the Logan Airport Parking Freeze Area by 5,000 parking spaces.

V. Incorporation by Reference

In this rule, the EPA is proposing to include in a final EPA rule regulatory text that includes incorporation by reference. In accordance with requirements of 1 CFR 51.5, the EPA is proposing to incorporate by reference 310 CMR 7.30 Massport/Logan Airport Parking Freeze. The EPA has made, and will continue to make, these documents generally available electronically through http://www.regulations.gov and/or in hard copy at the appropriate EPA office.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 13, 2017.
Deborah A. Szaro,
Acting Regional Administrator, EPA New England.

[FR Doc. 2017-26182 Filed 12-4-17; 8:45 am]

BILLING CODE 6560-50-P